DEPARTMENT OF COMMERCE

National Oceanic and Atmospheric Administration

[I.D. 091404A]

Proposed Information Collection; Comment Request; Reporting of Sea Turtle Entanglement in Pot Gear Fisheries

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before November 19, 2004.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Kara Dodge, NOAA/NMFS/NERO, Protected Resources Division, One Blackburn Drive, Gloucester, MA 01930 (Phone 978-281-9328 x6529).

SUPPLEMENTARY INFORMATION:

I. Abstract

This collection of information involves sea turtles becoming accidentally entangled in active or discarded fixed fishing gear. These entanglements may prevent the recovery of endangered and threatened sea turtle populations. NOAA Fisheries had established the Sea Turtle Disentanglement Network to promote reporting and increase successful disentanglement of sea turtles. As there is limited to no observer coverage of pot gear fisheries, NOAA Fisheries relies on the U.S. Coast Guard, fishing industry, stranding network, federal , state, and local authorities, and the public for this information. The information provided will help NOAA Fisheries better assess pot gear fisheries (lobster, whelk/conch, crab, fish trap) and their impacts on sea turtle populations in the northeast region (Maine to Virginia).

II. Method of Collection

Members of the Disentanglement Network and the public are requested to call and inform NOAA Fisheries of any sea turtle entanglements they encounter. Information provided in these phone calls (or by fax or mail) will include: name and type of reporting vessel, vessel cell phone number or radio call channel, reporter name and home phone number, date/time of report (and/or sighting event), location (latitude and longitude), description of turtle for species identification, status of turtle alive or dead, description of entangling gear (rope, line, buoys, colors, ID numbers), location of entangling gear on turtle (head, flippers, single wrap, multiple wraps), description of any visible injuries, and weather/sea conditions at the scene. Information will be collected by NOAA Fisheries when a sea turtle entanglement event occurs. Reports and documentation of dead or injured sea turtles are also requested. NOAA Fisheries may request assistance from the responder to bring injured sea turtles to the appropriate stranding and rehabilitation facility for veterinary care when practical. NOAA Fisheries may also request assistance to bring fresh dead sea turtles to the appropriate stranding facility for necropsy.

III. Data

OMB Number: 0648-0496.

Form Number: None.

Type of Review: Regular submission.

Affected Public: Business or other for profit organizations; Individuals or households; Not-for-profit institutions; Federal Government; and State, Local or Tribal Government.

Estimated Number of Respondents: 15.

Estimated Time Per Response: 60 minutes for a telephone call.

Estimated Total Annual Burden Hours: 30.

Estimated Total Annual Cost to Public: $450.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 10, 2004.
Gwellnar Banks,
Management Analyst, Office of the Chief Information Officer.

[FR Doc. 04-21094 Filed 9-17-04; 8:45 am]

BILLING CODE 3510-22-S